DEPARTMENT OF ENERGY

Notice of Intent To Grant Exclusive Copyright License

AGENCY: Department of Energy, Office of the General Counsel.

ACTION: Notice of intent to grant exclusive copyright license.

SUMMARY: Notice is hereby given of an intent to grant to Business Commerce Solutions of Gaithersburg, Maryland an exclusive license in the U.S. copyright in the EC-WEB EC/EDI Gateway small purchase software, as well as the right to register the copyright in foreign countries. A Notice to the effect that the computer software was available for license appeared in the February 7, 2000 issue of the Federal Register [65 FR 5859]. The two entities which responded to that Notice were asked to respond to a Questionnaire which asked them to detail their plans for maintaining and updating the software, and the resources they were ready, willing and able to commit to the task. Based on these responses, Business Commerce Solutions was chosen as the exclusive licensee. The copyright will be held by the United States of America, as represented by the Department of Energy (DOE). DOE intends to grant the license, unless within 15 days of this notice the Assistant General Counsel for Technology Transfer and Intellectual Property, Department of Energy, Washington, DC 20585, receives in writing a statement from any person setting forth a reason or reasons why it would not be in the best interests of the United States to grant the proposed license, together with supporting documents.

DATES: Send written comments to the address listed below no later than July 21, 2000.

ADDRESSES: Office of the Assistant General Counsel for Technology Transfer and Intellectual Property, U.S. Department of Energy, 1000 Independence Avenue, SW., Washington, DC 20585.

FOR FURTHER INFORMATION CONTACT: Michael P. Hoffman, Office of the Assistant General Counsel for Technology Transfer and Intellectual Property, U.S. Department of Energy, Forrestal Building, Room 6F-067, 1000 Independence Avenue, SW., Washington, DC 20585; Telephone (202) 586-3441.

SUPPLEMENTARY INFORMATION: The above-described software was prepared under Government contract. Business Commerce Solutions, in return for an exclusive royalty-free license in the software, will maintain and revise the software, making the revisions available to the Government free of charge, thereby relieving the Government of part of the labor and expense of doing so.

Issued in Washington, D.C., on June 29, 2000.
Paul A. Gottlieb,
Assistant General Counsel for Technology Transfer and Intellectual Property.

[FR Doc. 00-17119 Filed 7-5-00; 8:45 am]

BILLING CODE 6450-01-P